DEPARTMENT OF TRANSPORTATION

Federal Aviation Administration

14 CFR Part 39

[Docket No. FAA-2008-0730; Directorate Identifier 2008-NM-055-AD]

RIN 2120-AA64

Airworthiness Directives; Bombardier Model DHC-8-400, DHC-8-401, and DHC-8-402 Airplanes

AGENCY: Federal Aviation Administration (FAA), DOT.

ACTION: Notice of proposed rulemaking (NPRM).

SUMMARY: We propose to adopt a new airworthiness directive (AD) for the products listed above. This proposed AD results from mandatory continuing airworthiness information (MCAI) originated by an aviation authority of another country to identify and correct an unsafe condition on an aviation product. The MCAI describes the unsafe condition as:

All DHC-8 Series 400 aircraft have had a spoiler fuselage cable disconnect sensing system installed in production. Subsequently it was discovered that, in the event of a spoiler fuselage cable disconnect, only the ROLL SPLR INBD HYD caution light will be illuminated until the aircraft speed decreases below 165 kts [knots], at which time the ROLL SPLR OUTBD HYD caution light will also be illuminated. In the event of a spoiler fuselage cable disconnect in association with the existing indications described above, the reduction in roll authority could result in increased pilot workload during approach and landing.

* * * * *

The proposed AD would require actions that are intended to address the unsafe condition described in the MCAI.

DATES: We must receive comments on this proposed AD by August 1, 2008.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-40, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this proposed AD, the regulatory evaluation, any comments received, and other information. The street address for the Docket Operations office (telephone (800) 647-5527) is in the ADDRESSES section. Comments will be available in the AD docket shortly after receipt.

FOR FURTHER INFORMATION CONTACT: Dan Parrillo, Aerospace Engineer, Systems and Flight Test Branch, ANE-172, FAA, New York Aircraft Certification Office, 1600 Stewart Avenue, Suite 410, Westbury, New York 11590; telephone (516) 228-7305; fax (516) 794-5531.

SUPPLEMENTARY INFORMATION:

Comments Invited

We invite you to send any written relevant data, views, or arguments about this proposed AD. Send your comments to an address listed under the ADDRESSES section. Include “Docket No. FAA-2008-0730; Directorate Identifier 2008-NM-055-AD” at the beginning of your comments. We specifically invite comments on the overall regulatory, economic, environmental, and energy aspects of this proposed AD. We will consider all comments received by the closing date and may amend this proposed AD based on those comments.

We will post all comments we receive, without change, to http://www.regulations.gov, including any personal information you provide. We will also post a report summarizing each substantive verbal contact we receive about this proposed AD.

Discussion

Transport Canada Civil Aviation (TCCA), which is the aviation authority for Canada, has issued Canadian Airworthiness Directive CF-2008-13, dated February 14, 2008 (referred to after this as “the MCAI”), to correct an unsafe condition for the specified products. The MCAI states:

All DHC-8 Series 400 aircraft have had a spoiler fuselage cable disconnect sensing system installed in production. Subsequently it was discovered that, in the event of a spoiler fuselage cable disconnect, only the ROLL SPLR INBD HYD caution light will be illuminated until the aircraft speed decreases below 165 kts [knots], at which time the ROLL SPLR OUTBD HYD caution light will also be illuminated. In the event of a spoiler fuselage cable disconnect in association with the existing indications described above, the reduction in roll authority could result in increased pilot workload during approach and landing.

Modsums 4-110066 and 4-126356 (each applicable to a different batch of aircraft serial numbers) have been issued to rework the sensing circuit caution light indication to ensure that it is consistent for spoiler fuselage cable disconnects above and below 165 kts. Modsum 4-126356 has been installed in production on aircraft serial numbers 4130 and subsequent.

You may obtain further information by examining the MCAI in the AD docket.

Relevant Service Information

Bombardier has issued Service Bulletin 84-27-33, dated June 6, 2007; and Service Bulletin 84-27-28, Revision B, dated September 25, 2007. The actions described in this service information are intended to correct the unsafe condition identified in the MCAI.

FAA's Determination and Requirements of This Proposed AD

This product has been approved by the aviation authority of another country, and is approved for operation in the United States. Pursuant to our bilateral agreement with the State of Design Authority, we have been notified of the unsafe condition described in the MCAI and service information referenced above. We are proposing this AD because we evaluated all pertinent information and determined an unsafe condition exists and is likely to exist or develop on other products of the same type design.

Differences Between This AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have proposed different actions in this AD from those in the MCAI in order to follow FAA policies. Any such differences are highlighted in a NOTE within the proposed AD.

Costs of Compliance

Based on the service information, we estimate that this proposed AD would affect about 20 products of U.S. registry. We also estimate that it would take about 10 work-hours per product to comply with the basic requirements of this proposed AD. The average labor rate is $80 per work-hour. Required parts would cost about $2,339 per product. Where the service information lists required parts costs that are covered under warranty, we have assumed that there will be no charge for these costs. As we do not control warranty coverage for affected parties, some parties may incur costs higher than estimated here. Based on these figures, we estimate the cost of the proposed AD on U.S. operators to be $62,780, or $3,139 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this proposed AD would not have federalism implications under Executive Order 13132. This proposed AD would not have a substantial direct effect on the States, on the relationship between the national Government and the States, or on the distribution of power and responsibilities among the various levels of government.

For the reasons discussed above, I certify this proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

List of Subjects in 14 CFR Part 39

Air transportation, Aircraft, Aviation safety, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Bombardier, Inc. (Formerly de Havilland, Inc.): Docket No. FAA-2008-0730; Directorate Identifier 2008-NM-055-AD.

Comments Due Date

(a) We must receive comments by August 1, 2008.

Affected ADs

(b) None.

Applicability

(c) Bombardier Model DHC-8-400, DHC-8-401 and DHC-8-402 airplanes, serial numbers 4003, 4004, 4006, and 4008 through 4129, certificated in any category.

Subject

(d) Air Transport Association (ATA) of America Code 27: Flight Controls.

Reason

(e) The mandatory continuing airworthiness information (MCAI) states:

All DHC-8 Series 400 aircraft have had a spoiler fuselage cable disconnect sensing system installed in production. Subsequently it was discovered that, in the event of a spoiler fuselage cable disconnect, only the ROLL SPLR INBD HYD caution light will be illuminated until the aircraft speed decreases below 165 kts [knots], at which time the ROLL SPLR OUTBD HYD caution light will also be illuminated. In the event of a spoiler fuselage cable disconnect in association with the existing indications described above, the reduction in roll authority could result in increased pilot workload during approach and landing.

Modsums 4-110066 and 4-126356 (each applicable to a different batch of aircraft serial numbers) have been issued to rework the sensing circuit caution light indication to ensure that it is consistent for spoiler fuselage cable disconnects above and below 165 kts. Modsum 4-126356 has been installed in production on aircraft serial numbers 4130 and subsequent.

Actions and Compliance

(f) Unless already done, do the following actions.

(1) For airplanes with serial numbers 4003, 4004, 4006, and 4008 through 4094: Within 6,000 flight hours after the effective date of this AD, modify the spoiler cable disconnect sensing circuit by incorporating Modsum 4-110066 in accordance with Bombardier Service Bulletin 84-27-33, dated June 6, 2007.

(2) For airplanes with serial numbers 4095 through 4129: Within 6,000 flight hours after the effective date of this AD, modify the spoiler cable disconnect sensing circuit by incorporating Modsum 4-126356 in accordance with Bombardier Service Bulletin 84-27-28, Revision B, dated September 25, 2007.

(3) Installations of Modsum 4-126356 accomplished before the effective date of this AD according to Bombardier Service Bulletin 84-27-28, dated October 2, 2006; or Revision A, dated April 30, 2007; are considered acceptable for compliance with the corresponding action specified in this AD.

FAA AD Differences

Note: This AD differs from the MCAI and/or service information as follows: No differences.

Other FAA AD Provisions

(g) The following provisions also apply to this AD:

(1) Alternative Methods of Compliance (AMOCs): The Manager, New York Aircraft Certification Office (ACO), FAA, has the authority to approve AMOCs for this AD, if requested using the procedures found in 14 CFR 39.19. Send information to ATTN: Dan Parrillo, Aerospace Engineer, Systems and Flight Test Branch, ANE-172, FAA, New York ACO, 1600 Stewart Avenue, Suite 410, Westbury, New York 11590; telephone (516) 228-7305; fax (516) 794-5531. Before using any approved AMOC on any airplane to which the AMOC applies, notify your appropriate principal inspector (PI) in the FAA Flight Standards District Office (FSDO), or lacking a PI, your local FSDO.

(2) Airworthy Product: For any requirement in this AD to obtain corrective actions from a manufacturer or other source, use these actions if they are FAA-approved. Corrective actions are considered FAA-approved if they are approved by the State of Design Authority (or their delegated agent). You are required to assure the product is airworthy before it is returned to service.

(3) Reporting Requirements: For any reporting requirement in this AD, under the provisions of the Paperwork Reduction Act, the Office of Management and Budget (OMB) has approved the information collection requirements and has assigned OMB Control Number 2120-0056.

Related Information

(h) Refer to MCAI Canadian Airworthiness Directive CF-2008-13, dated February 14, 2008; and Bombardier Service Bulletins 84-27-33, dated June 6, 2007; and 84-27-28, Revision B, dated September 25, 2007; for related information.

Issued in Renton, Washington, on June 24, 2008.
Ali Bahrami,
Manager, Transport Airplane Directorate, Aircraft Certification Service.

[FR Doc. E8-14964 Filed 7-1-08; 8:45 am]

BILLING CODE 4910-13-P